DEPARTMENT OF AGRICULTURE

Foreign Agricultural Service

Notice of Request for Revision of a Currently Approved Information Collection

AGENCY: Foreign Agricultural Service, USDA.

ACTION: Notice and request for comments.

SUMMARY: In accordance with the Paperwork Reduction Act of 1995, this notice announces that the Foreign Agricultural Service (FAS) intends to request a revision to a currently approved information collection procedure for the Trade Adjustment Assistance for Farmers program as described in 7 CFR part 1580.

DATES: Comments should be received on or before January 29, 2010 to be assured consideration.

ADDRESSES: Mail or deliver comments to the Trade Adjustment Assistance for Farmers Staff, Import Policies and Export Reporting Division, Office of Trade Programs, Foreign Agricultural Service, U.S. Department of Agriculture, STOP 1021, 1400 Independence Avenue, SW., Washington, DC 20250-1021, or telephone at (202) 720-0638.

FOR FURTHER INFORMATION CONTACT: The Trade Adjustment Assistance for Farmers Staff, at the address above, or telephone at (202) 720-0638, or e-mail at tradeadjustment@fas.usda.gov.

SUPPLEMENTARY INFORMATION: Title: Trade Adjustment Assistance for Farmers.

OMB Number: 0551-0040.

Expiration Date of Approval: February 28, 2010.

Type of Request: Revision to currently approved information collection.

Abstract: The American Recovery and Reinvestment Act of 2009 reauthorizes and modifies the Trade Adjustment Assistance (TAA) for Farmers program as established by Subtitle C of Title I of the Trade Act of 2002, which amended the Trade Act of 1974. Under this program, the U.S. Department of Agriculture (USDA) provides technical assistance and cash benefits to eligible producers of raw agricultural commodities and fishermen when the Foreign Agricultural Service (FAS) Administrator determines that increased imports of raw agricultural commodities, aquaculture products, or wild-caught aquatic species (jointly referred to as “agricultural commodities”) have contributed importantly to a greater than 15 percent decrease in the national average price, or quantity of production, or value of production, or cash receipts for the agricultural commodity specified in the certified petition compared to the average of the three preceding marketing years. The regulation 7 CFR part 1580 established the procedure by which producers of raw agricultural commodities and fishermen can petition (form FAS-930 or a reasonable substitute) for certification of eligibility and apply for technical assistance and cash payments. To receive consideration for TAA for Farmers certification, petitioners must supply the information required by 7 CFR 1580.201. Once a petition has been certified, individuals covered by the certification must apply for TAA for Farmers benefits in accordance with 7 CFR 1580.301. The specific information required on an application (form FSA-229) must be collected from those who wish to receive program benefits. The number of respondents has doubled since the original Paperwork Reduction Act information collection procedure was filed in August 2003. The revision to this information collection is to decrease the total estimated burden hours from 14,000 to 8,750 hours based on changes to previous program eligibility requirements.

Estimated Number of Respondents: 1,250.

Estimated Number of Responses per Respondent: 1.

Estimated Burden of Hours per Response: 7 hours.

Estimated Total Annual Burden on Respondents: 8,750 hours.

Copies of this information collection can be obtained from Tamoria Thompson-Hall, the Agency Information Collection Coordinator, at (202) 690-1690.

Request for Comments

The public is invited to submit comments and suggestions to the above address regarding the accuracy of the burden, estimate, ways to minimize the burden, including through the use of automated collection techniques or other forms of information technology, or any other aspect of this collection of information. Comments on the issues covered by the Paperwork Reduction Act are most useful to the Office of Management and Budget (OMB) if received within 30 days of publication of the Notice and Request for Comments, but must be submitted no later than 60 days from the date of publication to be assured of consideration. All responses to this notice will be summarized and included in the request for OMB approval. All comments will also become a matter of public record. Persons with disabilities who require an alternative means for communication of information (Braille, large print, audiotape, etc.) should contact the USDA Target Center at (202) 720-2600 (voice and TDD).

Dated: November 17, 2009.
Michael V. Michener,
Administrator, Foreign Agricultural Service.

[FR Doc. E9-28502 Filed 11-27-09; 8:45 am]

BILLING CODE 3410-10-P